ENVIRONMENTAL PROTECTION AGENCY

[FRL-7518-2]

Science Advisory Board; Notification of Public Advisory Committee Meeting; Executive Committee

AGENCY: Environmental Protection Agency (EPA).

ACTION: Notice.

SUMMARY: The Environmental Protection Agency (EPA) Science Advisory Board (SAB) Executive Committee (EC), a Federal Advisory Committee, will hold a public meeting on the date and time given below to obtain briefings on EPA Regional science issues, and to discuss the SAB Operating Plan for FY2004.

DATES: The meeting will take place on Wednesday and Thursday, July 16-17, 2003 beginning 9 a.m. on July 16 and adjourning no later than 12 noon on July 17 (Central Time). Requests for oral comments, as well as submission of written comments must be received by July 8, 2003. Please see further details below.

ADDRESSES: The meeting will be held in the Lake Michigan Conference Room, U.S. EPA Region 5 Headquarters, Metcalfe Federal Building, 77 West Jackson Boulevard, Chicago, Illinois. For meeting location, building access, and visitor information, please see the Region 5 Web site at: http://www.epa.gov/region5/visitor/index.htm.

FOR FURTHER INFORMATION CONTACT: Any member of the public wishing further information concerning this meeting or wishing to present oral comments must contact Mr. A. Robert Flaak, Designated Federal Officer, EPA Science Advisory Board (1400A), U.S. Environmental Protection Agency, 1200 Pennsylvania Avenue, NW., Washington, DC 20460; telephone (202) 564-4546; Fax (202) 501-0582; or via e-mail at flaak.robert@epa.gov.

SUPPLEMENTARY INFORMATION: Summary: Pursuant to the Federal Advisory Committee Act, Public Law 92-463, notice is hereby given that the EC of the U.S. EPA Science Advisory Board (SAB) will hold a public meeting to discuss the following topics:

(a) EPA Regional Science Issues—The SAB will receive briefings from, and discuss scientific issues, with Regional senior leadership and scientists. These are designed to: (1) inform the SAB about regional science issues and concerns; (2) identify opportunities for future SAB and Regional office interactions on topics of interest; and (3) provide the regions with insights into the overall SAB role in advising the Agency on the technical underpinnings of the Agency's science and environmental decisions.

(b) SAB Operating Plan for FY2004—The Board will discuss the proposed projects submitted by Agency offices and regions and the self-initiated projects proposed by the SAB during this meeting. These projects are all being considered for inclusion in the SAB's FY2004 Operating Plan (see below for availability of these project summaries).

A meeting agenda will be posted on the SAB Web site (see below) approximately 10 days prior to the meeting. Any additional topics developed for this meeting will be reflected in the agenda.

The SAB was established by 42 U.S.C. 4365 to provide independent scientific and technical advice, consultation, and recommendations to the EPA Administrator on the technical basis for Agency positions and regulations. General information about the EPA Science Advisory Board, may be found on the SAB Web site (http://www.epa.gov/sab).

Requests for Comment: Requests for oral comments must be in writing (e-mail, fax or mail) and received by Mr. Flaak no later than noon Eastern Standard Time on July 8, 2003. Written comments should also be sent to Mr. Flaak prior to the meeting. Submission of written comments by e-mail to Mr. Flaak will maximize the time available for review by the EC.

Availability of Review Materials: All preliminary meeting materials will be posted on the SAB Web site at: (http://www.epa.gov/sab/whatsnew.htm) approximately ten days prior to the meeting.

General Guidance on Providing Oral or Written Comments at SAB Meetings: It is the policy of the EPA Science Advisory Board to accept written public comments of any length, and to accommodate oral public comments whenever possible. The EPA Science Advisory Board expects that public statements presented at its meetings will not be repetitive of previously submitted oral or written statements.

Oral Comments: In general, each individual or group requesting an oral presentation at a face-to-face meeting will be limited to a total time of ten minutes (unless otherwise indicated above). For teleconference meetings, opportunities for oral comment will usually be limited to no more than three minutes per speaker and no more than fifteen minutes total. Deadlines for getting on the public speaker list for a meeting are given above. Speakers should bring at least 35 copies of their comments and presentation slides for distribution to the reviewers and public at the face-to-face meetings.

Written Comments: Although the SAB accepts written comments until the date of the meeting (unless otherwise stated), written comments should be received in the SAB Staff Office at least one week prior to the meeting date so that the comments may be made available to the committee for their consideration. Comments should be supplied to the appropriate DFO at the address/contact information noted above in the following formats: one hard copy with original signature, and one electronic copy via e-mail (acceptable file format: WordPerfect, Word, or Rich Text files (in IBM-PC/Windows 95/98 format). Those providing written comments and who attend face-to-face meeting are also asked to bring 35 copies of their comments for public distribution.

Meeting Access—Individuals requiring special accommodation at this meeting, including wheelchair access to the conference room, should contact Mr. Flaak at least five business days prior to the meeting so that appropriate arrangements can be made.

Dated: June 16, 2003.
Vanessa T. Vu,
Director, EPA Science Advisory Board Staff Office.

[FR Doc. 03-15904 Filed 6-23-03; 8:45 am]

BILLING CODE 6560-50-P